OFFICE OF MANAGEMENT AND BUDGET

Performance Measurement Advisory Council

AGENCY: Office of Management and Budget, Executive Office of the President.

ACTION: Notice of Federal Advisory Committee meeting.

Open Meeting Notice: The Performance Measurement Advisory Council (“PMAC”) will meet on Friday, September 13, 2002 from 9:00 a.m. to 3:00 p.m. Eastern Time. Location for the meeting will be the Truman Room of the White House Conference Center, 726 Jackson Place, Washington, DC. The meeting is open to the public and written statements may be filed with the advisory committee. It is recommended that members of the public wishing to attend bring photo identification. Due to limited availability of seating, members of the public will be admitted on a first-come, first-served basis.

The purpose of the meeting is to provide independent expert advice and recommendations to the Office of Management and Budget regarding measures of program performance and the use of such measures in making management and budget decisions. The agenda and topics to be discussed include a review of options for the presentation of program performance information in the budget, and review of the application of the Program Assessment Ratings Tool. An agenda may be obtained prior to the meeting at http://www.whitehouse.gov/omb/ budintegration/index.html. Additional information, including information for members of the public with disabilities, may be obtained by calling Mr. Thomas M. Reilly, PMAC Designated Federal Officer, (202) 395-4926.

Dated: August 13, 2002.
Thomas M. Reilly,
PMAC Designated Federal Officer.

[FR Doc. 02-21001 Filed 8-16-02; 8:45 am]

BILLING CODE 3110-01-P